ENVIRONMENTAL PROTECTION AGENCY

[FRL-6992-2]

Request for Nominations to the Good Neighbor Environmental Board

AGENCY: Environmental Protection Agency (EPA).

ACTION: Notice of request for nominations to federal advisory committee.

SUMMARY: The U.S. Environmental Protection Agency (EPA) is inviting nominations of qualified candidates to be considered for appointment to fill vacancies on the Good Neighbor Environmental Board, a federal advisory committee whose focus is sustainable development along the U.S.-Mexico border.

FOR FURTHER INFORMATION AND TO SUBMIT NOMINATIONS CONTACT: Elaine M. Koerner, Designated Federal Officer, Office of Cooperative Environmental Management, U.S. Environmental Protection Agency (1601A), 1200 Pennsylvania Avenue N.W., Washington, D.C. 20004; telephone 202-564-1484; fax 202-501-0661; email koerner.elaine@epa.gov.

SUPPLEMENTARY INFORMATION: The Good Neighbor Environmental Board is an independent federal advisory committee charged with advising the President and Congress on environmental and infrastructure practices along the U.S. border with Mexico. It was authorized under Section 6 of the Enterprise for the Americas Initiative Act, 7 U.S.C. 5404. Under Executive Order 12916, the EPA Administrator was delegated authority to administer the activities of the Board.

Good Neighbor has 24 Board members, including 16 non-federal members and 8 members from federal agencies. Federal agency members are appointed by the heads of their agencies. Non-federal members are appointed by the Administrator of EPA for a two year term, with the possibility of reappointment. The Board meets three times a year in different U.S. border communities and produces an annual report to the President and Congress. Between meetings, Board members continue their work through teleconference calls and e-mail.

Currently, there are 3 non-federal vacancies on the Board for which applications are being sought by EPA. The application process is open to all interested parties. To help maintain a balanced and diverse nonpartisan perspective, non-federal Board members continue to be recruited from all four U.S. border states and span all levels of government as well as the private sector, non-profit groups, and academic institutions. Recruitment is an ongoing process.

At the present time, given the composition of the Board and EPA's continued commitment to diversity and balance, EPA is especially interested in receiving applications from individuals with the following types of skills, expertise, and perspectives: maquiladora businesses, local governments, tribes, grassroots citizens' coalitions, ranching and grazing interests, and energy sector expertise. Those who live and work in border communities, have cross-border experience and networks, offer specific cultural perspectives, and are bilingual also are especially welcome to apply for membership. EPA Administrator Christine Todd Whitman makes the final recruitment decisions.

Nominations for membership must include a resume describing the professional and educational qualifications of the nominee and the nominee's current business address, daytime telephone number, fax, and e-mail address.

Dated: May 29, 2001.
Elaine M. Koerner,
Designated Federal Officer.

[FR Doc. 01-14250 Filed 6-5-01; 8:45 am]

BILLING CODE 6560-50-P